DEPARTMENT OF COMMERCE

Bureau of the Census

Census Advisory Committee of Professional Associations

AGENCY: Bureau of the Census, Department of Commerce.

ACTION: Notice of public meeting.

SUMMARY: Pursuant to the Federal Advisory Committee Act (Pub. L. 92-463 as amended by Pub. L. 94-409), the Bureau of the Census (Census Bureau) is giving notice of a meeting of the Census Advisory Committee of Professional Associations. The Committee will address issues regarding Census Bureau programs and activities related to their areas of expertise. Members will address policy, research, and technical issues related to the 2010 decennial census, including the American Community Survey and related programs. The Committee also will discuss several economic initiatives, as well as issues pertaining to marketing services, measurement of local labor market activity, and data stewardship. Last minute changes to the agenda are possible, which could prevent giving advance notice of schedule adjustments.

DATES: April 22-23, 2004. On April 22, the meeting will begin at approximately 9 a.m. and adjourn at approximately 5:15 p.m. On April 23, the meeting will begin at approximately 9 a.m. and adjourn at approximately 12:15 p.m.

ADDRESSES: The meeting will be held at the U.S. Census Bureau, 4700 Silver Hill Road, Suitland, Maryland 20746.

FOR FURTHER INFORMATION CONTACT: Jeri Green, Committee Liaison Officer, Department of Commerce, U.S. Census Bureau, Room 3627, Federal Building 3, Washington, DC 20233. Her telephone number is 301-763-2070, TDD 301-457-2540.

SUPPLEMENTARY INFORMATION: The Census Advisory Committee of Professional Associations is composed of 36 members, appointed by the Presidents of the American Economic Association, the American Statistical Association, and the Population Association of America, and the Chairperson of the Board of the American Marketing Association. The Committee members address issues regarding Census Bureau programs and activities related to their respective areas of expertise.

The meeting is open to the public, and a brief period is set aside for public comment and questions. Those persons with extensive questions or statements must submit them in writing, at least three days before the meeting, to the Committee Liaison Officer named above in the FOR FURTHER INFORMATION CONTACT heading. Seating is available to the public on a first-come, first-served basis.

This meeting is physically accessible to people with disabilities. Requests for sign language interpretation or other auxiliary aids should also be directed to the Committee Liaison Officer.

Dated: March 5, 2004.
Charles Louis Kincannon,
Director, Bureau of the Census.

[FR Doc. 04-5345 Filed 3-9-04; 8:45 am]

BILLING CODE 3510-07-P